DEPARTMENT OF THE TREASURY

United States Mint

Notification of Citizens Coinage Advisory Committee July 2005 Public Meeting

SUMMARY: Pursuant to United States Code, Title 31, section 5135(b)(8)(C), the United States Mint announces the Citizens Coinage Advisory Committee (CCAC) public meeting and Public Forum scheduled for July 28, 2005, at the American Numismatic Association's World's Fair of Money®. The purpose of this meeting is to advise the Secretary of the Treasury on themes and designs pertaining to the coinage of the United States and for other purposes.

Date: July 28, 2005.

Time: 2:30 p.m. to 6 p.m. (Public Meeting followed by Public Forum).

Location: Moscone Center, 747 Howard Street, San Francisco, CA 94103.

Subject: Review American Eagle Platinum Proof Coin designs and other business.

Interested persons should call (202) 354-7502 for the latest update on meeting time and room location.

The CCAC was established to:

• Advise the Secretary of the Treasury on any theme or design proposals relating to circulating coinage, bullion coinage, Congressional Gold Medals, and national and other medals.

• Advise the Secretary of the Treasury with regard to the events, persons, or places to be commemorated by the issuance of commemorative coins in each of the five calendar years succeeding the year in which a commemorative coin designation is made.

• Make recommendations with respect to the mintage level for any commemorative coin recommended.

FOR FURTHER INFORMATION CONTACT: Madelyn Simmons Marchessault, United States Mint Liaison to the CCAC; 801 9th Street, NW., Washington, DC 20220; or call (202) 354-7200.

Any member of the public interested in submitting matters for the CCAC's consideration or addressing the CCAC at the Public Forum is invited to submit request and/or materials by fax to the following number: (202) 756-6830.

Authority: 31 U.S.C. 5135(b)(8)(C).

Dated: June 29, 2005.
Henrietta Holsman Fore,
Director, United States Mint.

[FR Doc. 05-13180 Filed 7-1-05; 8:45 am]

BILLING CODE 4810-37-P